DEPARTMENT OF ENERGY

Federal Energy Regulatory Commission

Combined Notice of Filings #2

August 4, 2005.

Take notice that the Commission received the following electric rate filings.

Docket Numbers: ER01-1758-003.

Applicants: Altorfer, Inc.

Description: Altorfer, Inc. submits revisions to its market-based FERC Electric Rate Schedule No. 1 to include the reporting requirement for changes in status adopted by the Commission in Order No. 652.

Filed Date: 07/28/2005.

Accession Number: 20050803-0068.

Comment Date: 5 p.m. eastern time on Thursday, August 18, 2005.

Docket Numbers: ER04-127-002.

Applicants: Green Power Partners I LLC.

Description: Green Power Partners I LLC submits a notice of change of status.

Filed Date: 05/17/2005.

Accession Number: 20050519-0109.

Comment Date: 5 p.m. eastern time on Thursday, August 25, 2005.

Docket Numbers: ER04-449-009.

Applicants: New York Independent System Operator, Inc.

Description: New York Independent System Operator, Inc. and New York Transmission Owners submit a Status Report on Deliverability Analysis.

Filed Date: 07/01/2005.

Accession Number: 20050705-0208.

Comment Date: 5 p.m. eastern time on Friday, August 15, 2005.

Docket Numbers: ER05-1193-001.

Applicants: Midwest Independent Transmission System Operator, Inc.

Description: Midwest Independent Transmission System Operator, Inc. submits proposed revisions to Attachment H-1 (Index of Interconnection Agreement Customers) of it's open access transmission and energy markets tariff, FERC Electric Tariff, Third Revised Volume No. 1.

Filed Date: 07/29/2005.

Accession Number: 20050804-0022.

Comment Date: 5 p.m. eastern time on Friday, August 19, 2005.

Docket Numbers: ER05-1259-000.

Applicants: Midwest Independent Transmission System Operator, Inc.

Description: Midwest Independent Transmission System Operator, Inc. submits an Interconnection Agreement among the City of Lebanon, Ohio, the Midwest ISO and the Cincinnati Gas & Electric Company, by its agent Cinergy Services, Inc.

Filed Date: 07/28/2005.

Accession Number: 20050803-0072.

Comment Date: 5 p.m. eastern time on Thursday, August 18, 2005.

Docket Numbers: ER05-1260-000.

Applicants: Midwest Independent Transmission System Operator, Inc.

Description: Midwest Independent Transmission System Operator, Inc. submits an Interconnection Agreement among Hoosier Energy Rural Electric Cooperation, Inc., the Midwest ISO and PSI Energy, Inc.

Filed Date: 07/28/2005.

Accession Number: 20050803-0073.

Comment Date: 5 p.m. eastern time on Thursday, August 18, 2005.

Docket Numbers: ER05-1261-000.

Applicants: Carolina Power & Light Company.

Description: Carolina Power & Light Company submits an executed Network Integration Transmission Service Agreement & Network Operating Agreement with the Town of Waynesville, NC.

Filed Date: 07/28/2005.

Accession Number: 20050803-0069.

Comment Date: 5 p.m. eastern time on Thursday, August 18, 2005.

Docket Numbers: ER05-1274-000.

Applicants: Perryville Energy Partners, L.L.C.

Description: Perryville Energy Partners, L.L.C. submits a Notice of Termination of its FERC Electric Tariff, Original Volume 1, to become effective 7/1/05.

Filed Date: 07/28/2005.

Accession Number: 20050803-0054.

Comment Date: 5 p.m. eastern time on Thursday, August 18, 2005.

Docket Numbers: ER05-1275-000.

Applicants: Ramco Generating One, Inc.

Description: Ramco Generating One, Inc. submits a notice of cancellation of its FERC Electric Tariff, Original Volume No. 1, to become effective July 27, 2005.

Filed Date: 07/27/2005.

Accession Number: 20050803-0053.

Comment Date: 5 p.m. eastern time on Wednesday, August 17, 2005.

Docket Numbers: ER05-1280-000.

Applicants: Strategic Energy L.L.C.

Description: Strategic Energy LLC submits a notice of succession and revisions to its FERC Electric Tariff, First Revised Rate Schedule 1.

Filed Date: 07/28/2005.

Accession Number: 20050803-0060.

Comment Date: 5 p.m. eastern time on Thursday, August 18, 2005.

Docket Numbers: ER05-1013-001.

Applicants: California Independent System Operator Corporation.

Description: California Independent System Operator Corporation's amendment to filing and response to FERC's 7/13/05 deficiency letter in Docket No. ER05-1013-000.

Filed Date: 08/02/2005.

Accession Number: 20050804-0094.

Comment Date: 5 p.m. eastern time on Friday, August 12, 2005.

Docket Numbers: ER95-1374-018; ER96-1122-015.

Applicants: National Fuel Gas Resources, Inc.; NFR Power Inc.

Description: National Fuel Resources Inc. and NFR Power Inc. submit their Triennial Market Power Reviews and Revisions to their Market-Based Rate Tariffs.

Filed Date: 07/27/2005.

Accession Number: 20050729-0047.

Comment Date: 5 p.m. eastern time on Wednesday, August 17, 2005.

Docket Numbers: ER97-3428-008.

Applicants: Tri Valley Corporation.

Description: Tri-Valley Corporation submits its Triennial Updated Market Power Analysis.

Filed Date: 07/29/2005.

Accession Number: 20050729-5052.

Comment Date: 5 p.m. eastern time on Friday, August 19, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4346 Filed 8-10-05; 8:45 am]

BILLING CODE 6717-01-P